FEDERAL ACCOUNTING STANDARDS ADVISORY BOARD

Notice of Extension of Comment Period for Exposure Drafts Accounting for Federal Oil and Gas Resources and Reporting Gains and Losses From Changes in Assumption and Selecting Discount Rates and Valuation Dates

Board Action: Pursuant to 31 U.S.C. 3511(d), the Federal Advisory Committee Act (Pub. L. 92-463), as amended, and the FASAB Rules of Procedure, as amended in April, 2004, notice is hereby given that the Federal Accounting Standards Advisory Board (FASAB) has extended the Comment period for the Exposure Draft Accounting for Federal Oil and Gas Resources until January 11, 2008. The FASAB is also extending the comment period for the Exposure Draft Reporting Gains and Losses from Changes in Assumption and Selecting Discount Rates and Valuation Dates until January 15, 2008.

The Exposure Drafts are available on the FASAB home page http://www.fasab.gov/exposure.html. Copies can be obtained by contracting FASAB at (202) 512-7350. Respondents are encourages to comment on any part of the exposure drafts. Written comments are requested by January 11, 2008, and January 15, 2008, respectively. Comments should be sent to fasab@fasab.gov or: Wendy M. Payne, Executive Director, Federal Accounting Standards Advisory Board, 441 G Street, NW., Suite 6814, Mail Stop 6K17V, Washington, DC 20548.

FOR FURTHER INFORMATION CONTACT: Wendy Payne, Executive Director, 441 G Street, NW., Washington, DC 20648, or call (202) 512-7350.

Authority: Federal Advisory Committee Act, Pub. L. 92-463.

Dated: November 30, 2007.
Charles Jackson,
Federal Register Liaison Officer.

[FR Doc. 07-5942 Filed 12-5-07; 8:45 am]

BILLING CODE 1610-01-M